FEDERAL COMMUNICATIONS COMMISSION

Notice of Public Information Collection(s) Being Reviewed by the Federal Communications Commission, Comments Requested

November 2, 2001.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 14, 2002. If you anticipate that you will be submitting comments, but find it difficult to do so within the period of time allowed by this notice, you should advise the contact listed below as soon as possible.

ADDRESSES: Direct all comments to Les Smith, Federal Communications Commissions, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0995.

Title: Amendment of Part 1 of the Commission's Rules—Competitive Bidding Procedures, 47 CFR Section 1.2105(c)(1) of the Commission's Rules, Anti-Collusion.

Form Numbers: N/A.

Type of Review: Extension of a currently approved collection.

Respondents: Business or other for-profit entities; Not-for-profit institutions; State, Local or Tribal Governments.

Number of Respondents: 10.

Estimated Time per Response: 5 hours (2 hours w/in-house staff + 1.5 hours w/in-house counsel + 1.5 hours to prepare and file w/FCC).

Frequency of Response: On occasion reporting requirements.

Total Annual Burden: 50 hours.

Total Annual Costs: $6,000.

Needs and Uses: The information requirement will enable the Commission to ensure that no bidder gains an unfair advantage over other bidders in its spectrum auctions and thus enhance the competitiveness and fairness of its auctions. The information collected will be reviewed and, if warranted, referred to the Commission's Enforcement Bureau for possible investigation and administrative action. The Commission may also refer allegations of anticompetitive auction conduct to the Department of Justice for investigation.

OMB Approval Number: 3060-0850.

Title: Quick-Form Application for Authorization in the Ship, Aircraft, Amateur, Restricted and Commercial Operator, and General Mobile Radio Services.

Form No.: FCC 605.

Type of Review: Revision to an Existing Collection.

Respondents: Individuals or households; Business or other for-profit; Not-for-profit institutions; State, Local or Tribal Government.

Number of Respondents: 170,250.

Estimated Time Per Response: .44 hours.

Total Annual Burden: 74,910 hours.

Total Respondent Cost: $2,468,650.

Needs and Uses: FCC 605 application is a consolidated application form for Ship, Aircraft, Amateur, Restricted and Commercial Radio Operators, and General Mobile Radio Services and is used to collect licensing data for the Universal Licensing System.

The form is being revised to create an additional schedule to collect Exemptions for Ship Station Requirements and to clarify existing instructions for the general public.

The data collected on this form includes the applicant's Taxpayer Identification Number, and Date of Birth for Amateur and Commercial Operator licensing, however, this information will be redacted from public view.

There is a change to the estimated average burden and the number of respondents due to additional filings for Exemptions since the last submission.

Federal Communications Commission.
Magalie Roman Salas,
Secretary.

[FR Doc. 01-28266 Filed 11-9-01; 8:45 am]

BILLING CODE 6712-01-P